DEPARTMENT OF ENERGY

Federal Energy Regulatory Commission

[Project No. 13753-002; Project No. 13762-002; Project No. 13763-002; Project No. 13766-002; Project No. 13767-002; Project No. 13771-002]

FFP Missouri 16, LLC; FFP Missouri 15, LLC; FFP Missouri 13, LLC; Solia 5 Hydroelectric, LLC ; Solia 4 Hydroelectric, LLC ; Solia 8 Hydroelectric, LLC ; Notice of Technical Conference

On Wednesday, June 1, 2016, Federal Energy Regulatory Commission staff will hold a technical conference to discuss cultural resources related to the following six proposed hydroelectric projects to be located on the Monongahela River: Opekiska Lock and Dam Hydroelectric Project No. 13753, Morgantown Lock and Dam Hydroelectric Project No. 13762, Gray's Landing Lock and Dam Hydroelectric Project No. 13763, Maxwell Lock and Dam Hydroelectric Project No. 13766, Monongahela Lock and Dam Number Four Hydroelectric Project No. 13767, and Point Marion Lock and Dam Hydroelectric Project No. 13771.

The technical conference will begin at 1:00 p.m. Eastern Daylight Time. The conference will be held at the Federal Energy Regulatory Commission headquarters building located at 888 1st Street NE., Washington, DC, and will include teleconference capabilities.

All local, state, and federal agencies, Indian tribes, and other interested parties are invited to participate. There will be no transcript of the conference, but a summary of the meeting will be prepared for the project record. If you are interested in participating in the meeting you must contact Allyson Conner at (202) 502-6082 or allyson.conner@ferc.gov by May 31, 2016 to receive specific instructions on how to participate.

Commission conferences are accessible under section 508 of the Rehabilitation Act of 1973. For accessibility accommodations, please send an email to accessibility@ferc.gov or call toll free 1-866-208-3372 (voice) or 202-502-8659 (TTY), or send a FAX to 202-208-2106 with the required accommodations.

For more information about this technical conference, please contact: Sarah McKinley, Office of External Affairs, Federal Energy Regulatory Commission, 888 First Street NE., Washington, DC 20426, (202) 502-8368, sarah.mckinley@ferc.gov.

Dated: May 12, 2016.
Kimberly D. Bose,
Secretary.

[FR Doc. 2016-11907 Filed 5-19-16; 8:45 am]

BILLING CODE 6717-01-P